DEPARTMENT OF COMMERCE

National Oceanic and Atmospheric Administration

[I.D. 041701C]

Marine Mammals; File No. 931-1597-00

AGENCY: National Marine Fisheries Service (NMFS), National Oceanic and Atmospheric Administration (NOAA), Commerce.

ACTION: Issuance of permit.

SUMMARY: Notice is hereby given that Sam H. Ridgway, RDTE Div 3503, 49620 Beluga Rd, San Diego, California 92152-6266, has been issued a permit to take 48 species of stranded cetaceans for scientific research.

ADDRESSES: See SUPPLEMENTARY INFORMATION

FOR FURTHER INFORMATION CONTACT: Jill Lewandowski or Trevor Spradlin, 301/713-2289.

SUPPLEMENTARY INFORMATION: On August 29, 2000, notice was published in the Federal Register (65 FR 52410) that a request for a scientific research permit to take 48 species of stranded cetaceans had been submitted by the above-named individual.

The purpose of the research, as stated in the application, is to conduct audiometric and sonocular testing on 48 species of stranded cetaceans to determine their acoustic sensitivities and vestibular responses for use in assessing the potential impacts of manmade noise. Medical treatment may also be provided, at the request of the NMFS stranding network, to stranded or entrapped cetaceans. Biological samples may also be collected, upon authorization by the NMFS Regional Stranding Coordinator. Samples collected abroad may also be imported into the U.S. Research will occur in waters under the jurisdiction of the U.S. and the high seas over a 5-year period.

The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit, as required by the ESA, was based on a finding that such permit (1) was applied for in good faith, (2) will not operate to the disadvantage of the endangered species which is the subject of this permit, and (3) is consistent with the purposes and policies set forth in section 2 of the ESA.

Documents may be reviewed in the following locations:

Permits and Documentation Division, Office of Protected Resources, NMFS, 1315 East-West Highway, Room 13130, Silver Spring, MD 20910 (301/713-2289); and

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Coordinator, Pacific Area Office, NMFS, 2570 Dole Street, Room 106, Honolulu, HI 96822-2396; phone (808)943-1221; fax (808)943-1240;

Northeast Region, NMFS, One Blackburn Drive, Gloucester, MA 01930-2298; phone (508)281-9250; fax (508)281-9371;

Southeast Region, NMFS, 9721 Executive Center Drive North, St. Petersburg, FL 33702-2432; phone (727)570-5301; fax (727)570-5300.

Dated: May 22, 2001.
Ann D. Terbush,
Chief, Permits and Documentation Division, Office of Protected Resources, National Marine Fisheries Service.

[FR Doc. 01-13435 Filed 5-25-01; 8:45 am]

BILLING CODE 3510-22-S